DEPARTMENT OF THE TREASURY

Office of Foreign Assets Control

Identification of Additional Vessels Pursuant to the Iranian Transactions and Sanctions Regulations and Executive Order 13599

AGENCY: Office of Foreign Assets Control, Treasury.

ACTION: Notice.

SUMMARY: The Treasury Department's Office of Foreign Assets Control (“OFAC”) is publishing the names of eight vessels identified as property in which the Government of Iran has an interest that are blocked pursuant to the Iranian Transactions and Sanctions Regulations, 31 CFR part 560 (“ITSR”) and Executive Order 13599 and is also updating the entries on OFAC's list of Specially Designated Nationals and Blocked Persons to identify the new names and/or other information associated with eight previously-identified vessels.

DATES: The identification and updates made by the Director of OFAC of the vessels identified in this notice, pursuant to the ITSR and Executive Order 13599, was effective May 9, 2013.

FOR FURTHER INFORMATION CONTACT: Assistant Director, Sanctions Compliance and Evaluation, Office of Foreign Assets Control, Department of the Treasury, Washington, DC 20220, Tel.: 202-622-2490.

SUPPLEMENTARY INFORMATION:

Electronic and Facsimile Availability

This document and additional information concerning OFAC are available from OFAC's Web site (www.treas.gov/ofac) or via facsimile through a 24-hour fax-on-demand service, Tel.: 202-622-0077.

Background

On February 5, 2012, the President issued Executive Order 13599, “Blocking Property of the Government of Iran and Iranian Financial Institutions” (the “Order”). Section 1(a) of the Order blocks, with certain exceptions, all property and interests in property of the Government of Iran, including the Central Bank of Iran, that are in the United States, that hereafter come within the United States, or that are or hereafter come within the possession or control of any United States person, including any foreign branch.

Section 7(d) of the Order defines the term “Government of Iran” to mean the Government of Iran, any political subdivision, agency, or instrumentality thereof, including the Central Bank of Iran, and any person owned or controlled by, or acting for or on behalf of, the Government of Iran.

Section 560.211of the ITSR implements Section 1(a) of the Order. Section 560.304 of the ITSR defines the term “Government of Iran” to include: “(a) The state and the Government of Iran, as well as any political subdivision, agency, or instrumentality thereof, including the Central Bank of Iran; (b) Any person owned or controlled, directly or indirectly, by the foregoing; and (c) Any person to the extent that such person is, or has been, since the effective date, acting or purporting to act, directly or indirectly, for or on behalf of any of the foregoing; and (d) Any other person determined by the Office of Foreign Assets Control to be included within [(a) through (c)].” Section 560.313 of the ITSR further defines an “entity owned or controlled by the Government of Iran” to include “any corporation, partnership, association, or other entity in which the Government of Iran owns a 50 percent or greater interest or a controlling interest, and any entity which is otherwise controlled by that government.”

On July 12, 2012, the Director of OFAC identified fifty-eight vessels as property in which the Government of Iran has an interest that are blocked pursuant to the Order and the ITSR.

On May 9, 2013, the Director of OFAC identified eight vessels as property in which the Government of Iran has an interest that are blocked pursuant to the Order and the ITSR. On the same date, the Director of OFAC also updated the entries on OFAC's list of Specially Designated Nationals and Blocked Persons for eight of the vessels identified on July 12, 2012, as property in which the Government of Iran has an interest to identify new names or other information given to those vessels.

The listing for the newly-identified vessels is as follows:

1. ATLANTIS (5IM316) Crude Oil Tanker Tanzania flag (NITC); Vessel Registration Identification 9569621 (vessel) [IRAN].

2. BADR (EQJU) Iran flag; Vessel Registration Identification 8407345 (vessel) [IRAN] (Linked To: NATIONAL IRANIAN TANKER COMPANY).

3. DEMOS (5IM656) Crude Oil Tanker Tanzania flag (NITC); Vessel Registration Identification 9569683 (vessel) [IRAN].

4. INFINITY (5IM411) Crude Oil Tanker Tanzania flag (NITC); Vessel Registration Identification 9569671 (vessel) [IRAN].

5. JUSTICE Crude Oil Tanker None Identified flag; Vessel Registration Identification 9357729 (vessel) [IRAN] (Linked To: NATIONAL IRANIAN TANKER COMPANY).

6. SUNRISE (None identified) LPG Tanker None Identified flag (NITC); Vessel Registration Identification 9615092 (vessel) [IRAN].

7. SKYLINE (5IM632) Crude Oil Tanker Tanzania flag; Vessel Registration Identification 9569669 (vessel) [IRAN].

8. YOUNES (EQYY) Platform Supply Ship Iran flag; Vessel Registration Identification 8212465 (vessel) [IRAN] (Linked To: NATIONAL IRANIAN TANKER COMPANY).

The updated entries for the previously-identified vessels are as follows:

1. SHONA (f.k.a. ABADAN; f.k.a. ALPHA) (T2EU4) Crude/Oil Products Tanker Tanzania flag; Former Vessel Flag Malta; alt. Former Vessel Flag Tuvalu; alt. Former Vessel Flag None Identified; Vessel Registration Identification IMO 9187629; MMSI 572469210 (vessel) [IRAN] (Linked To: NATIONAL IRANIAN TANKER COMPANY).

2. DAMAVAND (9HEG9) Crude Oil Tanker None Identified flag; Former Vessel Flag Malta; Vessel Registration Identification IMO 9218478; MMSI 256865000 (vessel) [IRAN] (Linked To: NATIONAL IRANIAN TANKER COMPANY).

3. DARAB (9HEE9) Crude Oil Tanker None Identified flag; Former Vessel Flag Malta; Vessel Registration Identification IMO 9218492; MMSI 256862000 (vessel) [IRAN] (Linked To: NATIONAL IRANIAN TANKER COMPANY).

4. DAYLAM (9HEU9) Crude Oil Tanker None Identified flag; Former Vessel Flag Malta; Vessel Registration Identification IMO 9218466; MMSI 256872000 (vessel) [IRAN] (Linked To: NATIONAL IRANIAN TANKER COMPANY).

5. DELVAR (9HEF9) Crude Oil Tanker None Identified flag; Former Vessel Flag Malta; Vessel Registration Identification IMO 9218454; MMSI 256864000 (vessel) [IRAN] (Linked To: NATIONAL IRANIAN TANKER COMPANY).

6. DENA (9HED9) Crude Oil Tanker None Identified flag; Former Vessel Flag Malta; Vessel Registration Identification IMO 9218480; MMSI 256861000 (vessel) [IRAN] (Linked To: NATIONAL IRANIAN TANKER COMPANY).

7. HUWAYZEH (9HEJ9) Crude Oil Tanker None Identified flag; Former Vessel Flag Malta; Vessel Registration Identification IMO 9212888; MMSI 256869000 (vessel) [IRAN] (Linked To: NATIONAL IRANIAN TANKER COMPANY).

8. SUNEAST (f.k.a. AZALEA; f.k.a. SINA) (9HNY9) Crude Oil Tanker Seychelles flag; Former Vessel Flag Malta; alt. Former Vessel Flag Tuvalu; alt. Former Vessel Flag None Identified; Vessel Registration Identification IMO 9357365; MMSI 249256000 (vessel) [IRAN] (Linked To: NATIONAL IRANIAN TANKER COMPANY).

Dated: May 10, 2013.
Adam J. Szubin,
Director, Office of Foreign Assets Control.

[FR Doc. 2013-12060 Filed 5-20-13; 8:45 am]

BILLING CODE 4810-AL-P